DEPARTMENT OF COMMERCE

International Trade Administration

[A-570-964]

Seamless Refined Copper Pipe and Tube From the People's Republic of China: Notice of Court Decision Not in Harmony With the Final Results of the Antidumping Duty Administrative Review; 2012-2013

AGENCY: Enforcement and Compliance, International Trade Administration, Department of Commerce.

SUMMARY: On March 22, 2017, the United States Court of International Trade (“CIT”) issued its final judgment in litigation pursuant to the third antidumping duty administrative review of seamless refined copper pipe and tube from the People's Republic of China, sustaining the final results of remand redetermination pursuant to court order by the Department of Commerce (“the Department”). The Department is notifying the public that the final judgment in this case is not in harmony with the Department's final results of the antidumping administrative review, and the Department is amending those final results with respect to the weighted-average dumping margin assigned to Golden Dragon Precise Copper Tube Group, Inc., Hong Kong GD Trading Co., Ltd., and Golden Dragon Holding (Hong Kong) International, Ltd. (collectively, “Golden Dragon”).

DATES: Effective Date: April 3, 2017.

FOR FURTHER INFORMATION CONTACT: Maisha Cryor, AD/CVD Operations, Office IV, Enforcement and Compliance—International Trade Administration, U.S. Department of Commerce, 1401 Constitution Avenue NW., Washington, DC 20230; telephone (202) 482-2769.

SUPPLEMENTARY INFORMATION:

Background

On June 15, 2015, the Department published the Final Results.¹ On June 24, 2015, Golden Dragon, the respondent in the underlying proceeding, timely filed a complaint with the CIT to challenge certain aspects of the Final Results. On July 21, 2016, the CIT remanded the Final Results to the Department to further explain or reconsider the application of the value-added tax (“VAT”) adjustment to the export price of Golden Dragon.² On February 7, 2017, the Department issued its Remand Results, in which the Department determined that all of the copper cathode inputs used by Golden Dragon in the production of subject merchandise were VAT-exempt.³

¹ See Seamless Refined Copper Pipe and Tube from the People's Republic of China: Final Results of Antidumping Duty Administrative Review; 2012-2013, 80 FR 32087 (June 5, 2015) (“Final Results”).

² See Golden Dragon Precise Copper Tube Group, Inc., Hong Kong GD Trading Co., Ltd., Golden Dragon Holding (Hong Kong) International, Ltd., and GD Copper (U.S.A.) Inc., v. United States, Slip Op. 16-73, Court No. 15-00177 (CIT 2016) .

³ See Final Results of Redetermination Pursuant to Court Order, Golden Dragon Precise Copper Tube Group, Inc., Hong Kong GD Trading Co., Ltd., Golden Dragon Holding (Hong Kong) International, Ltd., and GD Copper (U.S.A.) Inc., v. United States, Consol. Court No. 15-00177 (February 7, 2017) (“Remand Results”).

On March 22, 2017, the CIT sustained the Department's Remand Results, and entered final judgment.⁴

⁴ See Golden Dragon Precise Copper Tube Group, Inc., Hong Kong GD Trading Co., Ltd., Golden Dragon Holding (Hong Kong) International, Ltd., and GD Copper (U.S.A.) Inc., v. United States, Slip Op. 17-29, Court No. 15-00177 (CIT 2017) .

Timken Notice

In its decision in Timken Co. v. United States, 893 F.2d 337 (Fed. Cir. 1990) (“Timken”), as clarified by Diamond Sawblades Mfrs. Coalition v. United States, 626 F.3d 1374 (Fed. Cir. 2010) (“Diamond Sawblades”), the Court of Appeals for the Federal Circuit held that, pursuant to section 516A(e) of the Tariff Act of 1930, as amended (“the Act”), the Department must publish a notice of a court decision that is not “in harmony” with a Department determination, and must suspend liquidation of entries pending a “conclusive” court decision. The CIT's March 22, 2017, judgment sustaining the Department's Remand Results constitutes a final decision of that court that is not in harmony with the Department's Final Results. This notice is published in fulfillment of the publication requirements of Timken. Accordingly, the Department will continue the suspension of liquidation of the subject merchandise pending the expiration of the period of appeal, or if appealed, pending a final and conclusive court decision.

Amended Final Results

Because there is now a final court decision, the Department is amending its Final Results with respect to Golden Dragon's weighted-average dumping margin. The revised weighted-average dumping margin for Golden Dragon during the period November 1, 2012, through October 31, 2013, is as follows:

Exporter | Weighted- average dumping margin (%)
Golden Dragon Precise Copper Tube Group, Inc., Hong Kong GD Trading Co., Ltd., and Golden Dragon Holding (Hong Kong) International, Ltd | 6.09

In the event the CIT's ruling is not appealed or, if appealed, is upheld by a final and conclusive court decision, the Department will instruct the U.S. Customs and Border Protection to assess antidumping duties on unliquidated entries of subject merchandise based on the revised rate calculated by the Department in the Remand Results, and listed above.

Cash Deposit Requirements

Because there have been subsequent administrative reviews for Golden Dragon, the cash deposit rate will remain the rate published in the 2013-2014 Final Results, which is 0.00 percent.⁵

⁵ See Seamless Refined Copper Pipe and Tube from the People's Republic of China: Final Results of Antidumping Duty Administrative Review; 2013-2014, 81 FR 39893, 39894 (June 20, 2016).

This notice is issued and published in accordance with sections 516A(e)(1), 751(a)(1) and 777(i)(1) of the Act.

Dated: April 4, 2017.
Ronald K. Lorentzen,
Acting Assistant Secretary for Enforcement and Compliance.

[FR Doc. 2017-07105 Filed 4-7-17; 8:45 am]

BILLING CODE 3510-DS-P